COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/23/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/28/2010 (75 FR 29994-29995) and 6/4/2010 (75 FR 31768-31769), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Padded Bright Self Stick Notes

NSN: 7530-01-285-8355—Padded, yellow, 4 x 6″ unruled self stick notes.

NSN: 7530-01-385-7560—Padded, bright, 1-1/2 x 2″ self stick notes.

NPA: Association for the Blind & Visually Impaired & Goodwill Ind. of Greater Rochester, Rochester, NY.

Contracting Activity: Federal Acquisition Service, GSA/FSS OFC SUP CTR—Paper Products, New York, NY

Coverage: A-List for the Total Government Requirement as aggregated by the General Services Administration.

Peel N Stick Kit

NSN: 7220-01-579-6875.

NSN: 7220-01-579-6877.

NSN: 7220-01-579-6876.

NSN: 7220-01-579-6880.

NSN: 7220-01-579-6870.

NPA: Louisiana Association for the Blind, Shreveport, LA.

Contracting Activity: GSA/Federal Acquisition Service, Arlington, VA

Coverage: B-List for the Broad Government Requirement as aggregated by the General Services Administration.

Pen, Ballpoint, Retractable

NSN: 7520-00-NIB-2091—3/PG, 1.0 mm medium point, blue ink

NSN: 7520-00-NIB-2092—3/PG, 1.0 mm medium point, black ink

NSN: 7520-00-NIB-2093—3/PG, 0.7 mm fine point, blue ink

NSN: 7520-00-NIB-2094—3/PG, 0.7 mm fine point, black ink

NSN: 7520-00-NIB-2097—6/PG, 1.0 mm medium point, black ink

NSN: 7520-00-NIB-2098—6/PG, 1.0 mm medium point, blue ink

Coverage: A-List for the Total Government Requirement as aggregated by the General Services Administration.

NSN: 7520-00-NIB-2099—6/PG, 1.0 mm medium point, asst. color ink—2 ea of 3 colors.

Coverage: B-List for the Broad Government Requirement as aggregated by the General Services Administration.

NPA: Industries for the Blind, Inc., West Allis, WI.

Contracting Activity: Federal Acquisition Service, GSA/FSS OFC SUP CTR—Paper Products, New York, NY

Services:

Service Type/Location: Custodial/Grounds Service, Donna Border Station, U.S. Highway 281and FM 493, Donna, TX.

NPA: Mavagi Enterprises, Inc., San Antonio, TX.

Contracting Activity: General Services Administration, Public Buildings Service, Building Services Team, Fort Worth, TX.

Service Type/Location: Document Assembly, Northern Research Station, 1992 Folwell Avenue, St. Paul, MN.

NPA: Opportunity Partners Inc., Minnetonka, MN.

Contracting Activity: Department Of Agriculture, St. Paul, MN.

Service Type/Locations:

Janitorial Service, Mt. Shasta Ranger Station, 204 W. Alma Street, Mt. Shasta, CA.

McCloud Ranger Station, 2019 Forest Road, McCloud, CA.

NPA: Siskiyou Opportunity Center, Inc., Mt Shasta, CA.

Contracting Activity: Dept. of Agriculture, Forest Service, Shasta-Trinity National Forest, Redding, CA.

Service Type/Location: Grounds Maintenance, National Weather Service Forecast Office, 400 Parkway Road, Charleston, WV.

NPA: Goodwill Industries of Kanawha Valley, Inc., Charleston, WV.

Contracting Activity: Department of Commerce, National Oceanic and Atmospheric Administration, Norfolk, VA.

Service Type/Location: Mailroom/Courier Service, San Juan Customhouse Building, 1 La Puntilla Street, San Juan, PR.

NPA: The Corporate Source, Inc., New York, NY.

Contracting Activity: Department of Homeland Security, Bureau of Customs and Border Protection, Office of Procurement, Washington, DC.

Service Type/Location: Custodial and Grounds Maintenance, U.S. Courthouse, 327 South Church Street, Rockford, IL.

NPA: Goodwill Industries of Southeastern Wisconsin, Inc., Milwaukee, WI.

Contracting Activity: General Services Administration, Public Buildings Service, Property Management Division, Springfield, IL.

Barry S. Lineback,
Director, Business Operations.

[FR Doc. 2010-18120 Filed 7-22-10; 8:45 am]

BILLING CODE 6353-01-P